SMALL BUSINESS ADMINISTRATION

[Disaster Declaration # 11353 and # 11354]

Texas Disaster Number TX-00297

AGENCY: U.S. Small Business Administration.

ACTION: Amendment 2.

SUMMARY: This is an amendment of the Presidential declaration of a major disaster for the State of Texas (FEMA-1780-DR), dated 07/31/2008.

Incident: Hurricane Dolly.

Incident Period: 07/22/2008 and continuing through 08/01/2008.

Effective Date: 08/01/2008.

Physical Loan Application Deadline Date: 09/30/2008.

EIDL Loan Application Deadline Date: 05/01/2009.

ADDRESSES: Submit completed loan applications to:

U.S. Small Business Administration, Processing and Disbursement Center, 14925 Kingsport Road, Fort Worth, TX 76155.

FOR FURTHER INFORMATION CONTACT: M. Mitravich, Office of Disaster Assistance, U.S. Small Business Administration, 409 3rd Street, SW., Suite 6050, Washington, DC 20416.

SUPPLEMENTARY INFORMATION: The notice of the President's major disaster declaration for the State of Texas, dated 07/31/2008 is hereby amended to establish the incident period for this disaster as beginning 07/22/2008 and continuing through 08/01/2008.

All other information in the original declaration remains unchanged.

(Catalog of Federal Domestic Assistance Numbers 59002 and 59008)

Herbert L. Mitchell,
Associate Administrator for Disaster Assistance.

[FR Doc. E8-18916 Filed 8-14-08; 8:45 am]

BILLING CODE 8025-01-P